DEPARTMENT OF HOMELAND SECURITY

Federal Emergency Management Agency

[Docket ID FEMA-2016-0002]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 21, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: July 31, 2017.
Roy E. Wright,
Deputy Associate Administrator for Insurance and Mitigation, Department of Homeland Security, Federal Emergency Management Agency.

Community | Community map repository address
Burlington County, New Jersey (All Jurisdictions)
Docket No.: FEMA-B-1650
Borough of Fieldsboro | Municipal Building, 204 Washington Street, Fieldsboro, NJ 08505.
Borough of Medford Lakes | Municipal Building, Clerk's Office, 3rd Floor, 1 Cabin Circle, Medford Lakes, NJ 08055.
Borough of Palmyra | Borough Hall, 2nd Floor, 20 West Broad Street, Palmyra, NJ 08065.
Borough of Pemberton | Municipal Building, 50 Egbert Street, Pemberton, NJ 08068.
Borough of Riverton | Borough Hall, 505A Howard Street, NJ 08077.
Borough of Wrightstown | Municipal Building, 21 Saylors Pond Road, Wrightstown, NJ 08562.
City of Beverly | City Hall, 2nd Floor, 446 Broad Street, Beverly, NJ 08010.
City of Bordentown | City Hall, Tax Office, 324 Farnsworth Avenue, Bordentown, NJ 08505.
City of Burlington | City Hall, Municipal Office, 525 High Street, Burlington, NJ 08016.
Township of Bass River | Bass River Township Municipal Building, 3 North Maple Avenue, New Gretna, NJ 08087.
Township of Bordentown | Municipal Building, Community Development Office, 1 Municipal Drive, Bordentown, NJ 08505.
Township of Burlington | Township Municipal Building, Engineering Department, 851 Old York Road, Burlington, NJ 08016.
Township of Chesterfield | Municipal Building, 300 Bordentown-Chesterfield Road, Chesterfield, NJ 08515.
Township of Cinnaminson | Township Building, 1621 Riverton Road, Cinnaminson, NJ 08077.
Township of Delanco | Municipal Building, 770 Coopertown Road, Delanco, NJ 08075.
Township of Delran | Municipal Building, 900 Chester Avenue, Delran, NJ 08075.
Township of Eastampton | Municipal Building, 12 Manor House Court, Eastampton, NJ 08060.
Township of Edgewater Park | Township Building, 400 Delanco Road, Edgewater Park, NJ 08010.
Township of Evesham | Evesham Township Municipal Building, Department of Community Development, 984 Tuckerton Road, Marlton, NJ 08053.
Township of Florence | Municipal Complex, Clerk's Office, 711 Broad Street, Florence, NJ 08518.
Township of Hainesport | Township Municipal Building, 1 Hainesport Centre, Hainesport, NJ 08036.
Township of Lumberton | Municipal Building, 35 Municipal Drive, Lumberton, NJ 08048.
Township of Mansfield | Mansfield Township Municipal Complex, 3135 Route 206 South, Suite 1, Columbus, NJ 08022.
Township of Maple Shade | Municipal Building, Community Development, 200 Stiles Avenue, Maple Shade, NJ 08052.
Township of Medford | Municipal Hall, 17 North Main Street, Medford, NJ 08055.
Township of Moorestown | Town Hall, Department of Community Development, 2nd Floor, 111 West 2nd Street, Moorestown, NJ 08057.
Township of Mount Holly | Municipal Building, Clerk's Office, 3rd Floor, 23 Washington Street, Mount Holly, NJ 08060.
Township of Mount Laurel | Municipal Building, 100 Mount Laurel Road, Mount Laurel, NJ 08054.
Township of New Hanover | New Hanover Township Municipal Building, 2 Hockamick Road, Cookstown, NJ 08511.
Township of North Hanover | North Hanover Township Municipal Building, 41 Schoolhouse Road, Jacobstown, NJ 08562.
Township of Pemberton | Municipal Building, 500 Pemberton-Browns Mills Road, Pemberton, NJ 08068.
Township of Riverside | Administrative Building, Consturction Office, 237 South Pavilion Avenue, Riverside, NJ 08075.
Township of Shamong | Municipal Building, 105 Willow Grove Road, Shamong, NJ 08088.
Township of Southampton | Municipal Building, 5 Retreat Road, Southampton, NJ 08088.
Township of Springfield | Springfield Township Municipal Building, 2159 Jacksonville Jobstown Road, Jobstown, NJ 08041.
Township of Tabernacle | Town Hall, 163 Carranza Road, Tabernacle, NJ 08088.
Township of Washington | Washington Township Municipal Building, Emergency Management Office, 2436 County Route 563, Egg Harbor City, NJ 08215.
Township of Westampton | Municipal Building, Construction Office, 710 Rancocas Road, Westampton, NJ 08060.
Township of Willingboro | Municipal Complex, 1 Reverend Dr. Martin Luther King, Jr. Drive, Willingboro, NJ 08046.
Township of Woodland | Woodland Township Municipal Building, 3943 Main Street, Chatsworth, NJ 08019.

[FR Doc. 2017-17762 Filed 8-21-17; 8:45 am]

BILLING CODE 9110-12-P